DEPARTMENT OF THE INTERIOR

Bureau of Land Management

[NV-910-03-0777-30]

Northeastern Great Basin Resource Advisory Council; Notice of 2003 Meetings, Locations, and Times

AGENCY: Bureau of Land Management, Interior.

ACTION: Notice of 2003 meetings, locations, and times for the Northeastern Great Basin Resource Advisory Council (Nevada).

SUMMARY: In accordance with the Federal Land Policy and Management Act (FLPMA) and the Federal Advisory Committee Act of 1972 (FACA), the U.S. Department of the Interior, Bureau of Land Management (BLM) Nevada Northeastern Great Basin Resource Advisory Council (RAC), will meet as indicated below. Topics for discussion at each meeting will include, but are not limited to: February 14, 2003 (Eureka, Nevada)—update on noxious weed program, mining update, Ely Resource Management Plan (RMP) status report, vegetation guidelines update, and California National Historic Trail Interpretive Center update; June 19, 2003 (Ely, Nevada)—possible joint session with Mojave/Southern Great Basin RAC, review of Elko RMP Fire Management Amendment, and review of final Off-Highway Vehicle (OHV) guidelines; September 12, 2003 (Battle Mountain, Nevada)—review of Appropriate Management Levels (AML) for Wild Horse and Burro Program, fire season status update, and Great Basin Restoration Initiative update.

Managers' reports of field office activities will be given at each meeting. The council may raise other topics at any of the three planned meetings.

Dates and Times: The RAC will meet three times in 2003 on February 4 at the Eureka Opera House, 31 South Main, Eureka, Nevada; on June 19 at the BLM Ely Field Office, 702 North Industrial Way, Ely, Nevada; and on September 12 at the BLM Battle Mountain Field Office, 50 Bastian Road, Battle Mountain, Nevada. All meetings are open to the public. Each meeting will last from 9 a.m. to 5 p.m. and will include a general public comment period, where the public may submit oral or written comments to the RAC. Each public comment period will begin at approximately 1 p.m. unless otherwise listed in each specific, final meeting agenda.

Final detailed agendas, with any additions/corrections to agenda topics, locations, field trips and meeting times, will be available on the internet at least 14 days before each meeting, at http://www.nv.blm.gov/rac; hard copies can also be mailed or sent via FAX. Individuals who need special assistance such as sign language interpretation or other reasonable accommodations, or who wish a hard copy of each agenda, should contact Mike Brown, Elko Field Office, 3900 East Idaho Street, Elko, Nevada 89801, telephone (775) 753-0386 no later than 10 days prior to each meeting.

FOR FURTHER INFORMATION CONTACT: Mike Brown, Public Affairs Officer, Elko BLM Field Office 3900 E. Idaho Street, Elko, NV 89801. Telephone: (775) 753-0386. E-mail: mbrown@nv.blm.gov.

Dated: December 11, 2002.
David Stout,
Associate Field Manager.

[FR Doc. 02-31844 Filed 12-17-02; 8:45 am]

BILLING CODE 4310-HC-P